FEDERAL COMMUNICATIONS COMMISSION

47 CFR Part 73

[DA 06-725; MB Docket No. 04-217; RM-10863]

Radio Broadcasting Services; Clayton, GA and Sylva, NC

AGENCY: Federal Communications Commission.

ACTION: Proposed rule; dismissal.

SUMMARY: In response to a Notice of Proposed Rule Making (“Notice ”), this Report and Order dismisses a rulemaking proceeding requesting that Channel 281A, FM Station WRBN, Clayton, Georgia, be reallotted to Sylva, North Carolina, and the license of Station WRBN be modified accordingly. Sutton Broadcasting Corporation (“Sutton”), the proponent of this rulemaking, requested Commission approval for the withdrawal of its Petition for Rule Making and its expression of interest in implementing its rulemaking proposal. Sutton filed a declaration that neither it nor any of its principals has received or will receive any consideration in connection with the withdrawal of its expression of interest in this proceeding.

FOR FURTHER INFORMATION CONTACT: R. Barthen Gorman, Media Bureau, (202) 418-2180.

SUPPLEMENTARY INFORMATION: This is a synopsis of the Commission's Report and Order, MB Docket No. 04-217, adopted March 29, 2006, and released March 31, 2006. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC 20554, telephone 1-800-378-3160 or http://www.BCPIWEB.com. This document is not subject to the Congressional Review Act. (The Commission is, therefore, not required to submit a copy of this Report and Order to GAO pursuant to the Congressional Review Act, see 5 U.S.C. 801(a)(1)(A), because the proposed rule is dismissed.)

List of Subjects in 47 CFR Part 73

Radio, Radio broadcasting.

Federal Communications Commission.
John A. Karousos,
Assistant Chief, Audio Division, Media Bureau.

[FR Doc. E6-5578 Filed 4-18-06; 8:45 am]

BILLING CODE 6712-01-P